DEPARTMENT OF TRANSPORTATION

Federal Railroad Administration

[Docket Number FRA-2024-0042]

Notice of Application for Approval of Discontinuance or Modification of a Railroad Signal System

Under part 235 of title 49 Code of Federal Regulations (CFR) and 49 U.S.C. 20502(a), this document provides the public notice that on March 15, 2024, Coos Bay Rail Line (CBRL) petitioned the Federal Railroad Administration (FRA) seeking approval to discontinue or modify a signal system. FRA assigned the petition Docket Number FRA-2024-0042.

Specifically, CBRL requests to discontinue the use of the signal system located on the North Bend swing span bridge, which will be replaced with gates equipped with stop signs, distance signs, and “craft specific locks” to govern about 10 train crossings per week over the bridge. CBRL states that the signal system, at milepost 763.6 on the Coos Bay Subdivision, “has been subjected to years of regular vandalism and theft,” which makes “maintaining such a system particularly challenging.” Additionally, CBRL explains that “the system also requires significant updating and repairs stemming from a structural failure that damaged multiple components crucial to its reliable and safe operation.” In support of its request, CBRL states that the subject trackage operates under yard limits authority (GCOR rules 6.27 and 6.28) and that the “more analog style system” it proposes to use will be a “more tamper resistant alternative for governing movement over the bridge.” CBRL also notes that another of its swing bridges has used a similar system for several years and has had no recordable incidents.

A copy of the petition, as well as any written communications concerning the petition, is available for review online at www.regulations.gov.

Interested parties are invited to participate in these proceedings by submitting written views, data, or comments. FRA does not anticipate scheduling a public hearing in connection with these proceedings since the facts do not appear to warrant a hearing. If any interested party desires an opportunity for oral comment and a public hearing, they should notify FRA, in writing, before the end of the comment period and specify the basis for their request.

All communications concerning these proceedings should identify the appropriate docket number and may be submitted at http://www.regulations.gov. Follow the online instructions for submitting comments.

Communications received by July 1, 2024 will be considered by FRA before final action is taken. Comments received after that date will be considered if practicable.

Anyone can search the electronic form of any written communications and comments received into any of our dockets by the name of the individual submitting the comment (or signing the document, if submitted on behalf of an association, business, labor union, etc.). Under 5 U.S.C. 553(c), the U.S. Department of Transportation (DOT) solicits comments from the public to better inform its processes. DOT posts these comments, without edit, including any personal information the commenter provides, to www.regulations.gov, as described in the system of records notice (DOT/ALL-14 FDMS), which can be reviewed at https://www.transportation.gov/privacy. See also https://www.regulations.gov/privacy-notice for the privacy notice of regulations.gov.

Issued in Washington, DC.
John Karl Alexy,
Associate Administrator for Railroad Safety, Chief Safety Officer.

[FR Doc. 2024-09452 Filed 4-30-24; 8:45 am]

BILLING CODE 4910-06-P